DEPARTMENT OF TRANSPORTATION

Federal Railroad Administration

[Docket Number FRA-2022-0098]

Petition for Waiver of Compliance

Under part 211 of title 49 Code of Federal Regulations (CFR), this document provides the public notice that on August 27, 2023, Brightline Trains Florida LLC (BLF) ¹ petitioned the Federal Railroad Administration (FRA) for a waiver of compliance from 49 CFR 213.353(e), Turnouts, crossovers, and lift rail assemblies or other transition devices on moveable bridges. For administrative convenience, FRA has placed BLF's petition in Docket Number FRA-2022-0098.

¹ Florida East Coast Railway (FEC) owns the track involved in this proposal.

BLF explains that its request for relief is proposed to enable BLF to proceed with the critical testing processes of Positive Train Control (PTC) Field Qualification Testing (FQT), PTC Simulated Revenue Service Demonstration (SRSD), and Simulated Service Demonstration (SSD) ² on the segment of its Phase 2 project connecting West Palm Beach, Florida, with Cocoa, Florida (Phase 2 N/S Corridor). As such, BLF requests that the waiver apply to train movements necessary in support of PTC Testing and crew qualification and would expire upon completion of SSD.

² The simulated service demonstration referenced by BLF will be conducted pursuant to 49 U.S.C. 20170.

Paragraph (e) of 49 CFR 213.353 requires all hand operated switches to be equipped with a redundant operating mechanism for maintaining the security of switch point position. BLF notes that there are 55 hand operated switches in its Phase 2 N/S Corridor, although the proposed waiver would only apply to 31 switches that are located in Class 6 track. BLF explains existing mitigations will be in place for the purpose of completing testing and service demonstration (i.e., the PTC system will provide protection for improperly lined switches through enforcement of the protecting signals and after passing a signal, if a switch in the block becomes improperly lined, the automatic train control (ATC) system will enforce the most restrictive cab signal state).

BLF asks for expedited review given scheduled start of the referenced testing.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and must be submitted to www.regulations.gov, with a copy to Carolyn Hayward-Williams, Director, Office of Railroad Systems and Technology, telephone: 202-493-6036, email: c.hayward-williams@dot.gov.

Communications received by September 12, 2023 will be considered by FRA before final action is taken. FRA reserves the right to make an initial decision in this docket in advance of the close of the comment period and contingent upon subsequent consideration of any comments submitted to the docket within the comment period.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-19034 Filed 9-1-23; 8:45 am]

BILLING CODE 4910-06-P